ENVIRONMENTAL PROTECTION AGENCY

[OPP-2003-0313; FRL-7326-3]

EPA-USDA Committee to Advise on Reassessment and Transition; Notice of Public Meeting

AGENCY: Environmental Protection Agency (EPA).

ACTION: Notice.

SUMMARY: The Environmental Protection Agency-United States Department of Agriculture Committee to Advise on Reassessment and Transition (EPA-USDA CARAT) will hold a public meeting on October 1-2, 2003. An agenda is being developed and will be posted by September 22, 2003, on EPA's website. This meeting will focus on recent case studies for the following selected commodities: Almonds, carrots, cranberries, peaches, potatoes, and walnuts. This first round of case studies was selected because of current pest management problems either from regulatory action, pest resistance, or a lack of adequate control measures. The CARAT Transition Work Group met on July 17-18, 2003, to discuss these case studies and to develop recommendations for presentation to EPA and USDA at this meeting.

DATES: The meeting will be held on Wednesday, October 1, 2003, from 9 a.m. to 5 p.m., and Thursday, October 2, 2003, from 9 a.m. to 1 p.m.

ADDRESSES: The meeting will be held at the Hotel Washington, 515 Pennsylvania Avenue NW., Washington, DC. The telephone number to the hotel is (202) 638-5900. The Hotel Washington is approximately 2½ blocks from the Metro Center Station and about a 15 minute taxi ride from Ronald Reagan Washington National Airport.

FOR FURTHER INFORMATION CONTACT: Margie Fehrenbach, Office of Pesticide Programs, Mail code 7501C, Environmental Protection Agency, 1200 Pennsylvania Avenue, NW., Washington, DC 20460; telephone number: 703-308-4775; fax number: 703-308-4776; e-mail address: Fehrenbach.Margie@epa.gov.

SUPPLEMENTARY INFORMATION:

I. General Information

A. Does this Action Apply to Me?

This action is directed to the public in general; however, persons may be interested who work in agricultural settings or persons who are concerned about implementation of the Federal Insecticide, Fungicide, and Rodenticide Act (FIFRA); the Federal Food, Drug, and Cosmetic Act (FFDCA); and the amendments to both of these major pesticide laws by the Food Quality Protection Act (FQPA) of 1996. Since other entities may also be interested, the Agency has not attempted to describe all the specific entities that may be affected by this action. If you have any questions regarding the applicability of this action to a particular entity, consult the person listed under FOR FURTHER INFORMATION CONTACT. Potentially affected entities may include but are not limited to: Agricultural workers and farmers; pesticide industry and trade associations; environmental, consumer and farmworker groups; pesticide users and growers; pest consultants; State, local and Tribal governments; academia; public health organizations; food processors; and the public. If you have any questions regarding the applicability of this action to a particular entity, consult the person listed under FOR FURTHER INFORMATION CONTACT.

B. How Can I Get Copies of this Document and Other Related Information?

1. Docket. EPA has established an official public docket for this action under docket identification (ID) number OPP-2003-0313. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An agenda is being developed and will be posted by September 22, 2003, on EPA's website at www.epa.gov/pesticides/carat.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

The Committee to Advise on Reassessment and Transition (CARAT) was established in accordance with the Federal Advisory Committee Act to provide advice and counsel to the Administrator of EPA and the Secretary of Agriculture regarding strategic approaches for pest management planning and tolerance reassessment for pesticides as required by the Food Quality Protection Act of 1996 (FQPA). Through CARAT, EPA and the USDA are working together to ensure smooth implementation of FQPA through use of sound science, consultation with stakeholders, increased transparency, and reasonable transition for agriculture. CARAT is composed of a balanced group of participants from the following sectors: Pesticide user, grower and commodity groups; industry and trade associations; food processors and distributors; environmental/public interest and farmworker groups; Federal, State and Tribal governments; public health organizations; and academia. The CARAT Work Group on Transition was established to identify barriers to the development and adoption by users of new, safer and effective pest management techniques and to formulate recommendations for Federal agency actions that, in partnership with the range of stakeholders, will reduce or eliminate these barriers.

III. How Can I Request to Participate in this Meeting?

This meeting will be open to the public. Opportunity will be provided for questions and comments by the public. Any person who wishes to file a written statement may do so before or after the meeting. These statements will become part of the permanent record and will be available for public inspection at the address listed under Unit I.B.1.

List of Subjects

Environmental protection, Agricultural workers, Agriculture, Chemicals, Foods, Pesticides, Pests, Risk assessment.

Dated: September 2, 2003.
Jim Jones,
Director, Office of Pesticide Programs.

[FR Doc. 03-22936 Filed 9-9-03; 8:45 am]

BILLING CODE 6560-50-S